DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-046. Applicant: Massachusetts Institute of Technology. Instrument: High-Resolution Superconducting Magnet. Manufacturer: Jastec, Japan. Intended Use: The instrument is intended to be used for a 500 MHz, 200 mm room-temperature bore MRI System to be assembled at MIT. This MRI System will be employed to study intact organisms, including small animals, various human and animal tissue samples, as well as other biological materials and phenomena including the activity of neural networks involved in vision and functional neuroimaging of the human brain through detection of changes in cerebral blood flow and energy metabolism, vascular potency and tissue perfusion in cerebral as well as in peripheral and coronary circulation.

Application accepted by Commissioner of Customs: November 28, 2005.

Gerald A. Zerdy,
Program Manager, Statutory Import Programs Staff.

[FR Doc. E5-7344 Filed 12-13-05; 8:45 am]

BILLING CODE 3510-DS-P